DEPARTMENT OF JUSTICE

Antitrust Division

Notice Pursuant to the National Cooperative Research and Production Act of 1993—Silicon Integration Initiative, Inc.

Notice is hereby given that, on March 18, 2019, pursuant to Section 6(a) of the National Cooperative Research and Production Act of 1993, 15 U.S.C. 4301 et seq. (“the Act”), Silicon Integration Initiative, Inc. (“Si2”) filed written notifications simultaneously with the Attorney General and the Federal Trade Commission disclosing changes in its membership. The notifications were filed for the purpose of extending the Act's provisions limiting the recovery of antitrust plaintiffs to actual damages under specified circumstances. Specifically, Agile Analog LTD, Cambridgeshire, UNITED KINGDOM; Avatar Integrated Systems, Santa Clara, CA; Blue Cheetah Analog Design, Palo Alto, CA; Chengdu Higon IC Design Co., Ltd., Beijing, PEOPLE'S REPUBLIC OF CHINA; and D2S, Inc., San Jose, CA, have been added as parties to this venture.

Also, Atoptech, Inc., Santa Clara, CA; Juniper Networks, San Diego, CA; D.E. Shaw Research, New York, NY; eASIC Corporation, Santa Clara, CA; EDXACT, Voiron, FRANCE; Fraunhofer Institute for Integrated Circuits IIS, Dresden, GERMANY; IC Manage, Inc., Campbell, CA; MINALOGIC, Grenoble, FRANCE; Oracle Corporation, Redwood City, CA; Peregrine Semiconductor Corporation, San Diego, CA; RICOH Electronic Devices Company, LTD, Tokyo, JAPAN; Sage Design

Automation, Santa Clara, CA; and Teklatech A/S, Frederiksberg, DENMARK, have withdrawn as parties to this venture.

In addition, the following member has changed its name: Thermo-Fisher Scientific, Inc. to Life Technologies Corporation, Carlsbad, CA.

No other changes have been made in either the membership or planned activity of the group research project. Membership in this group research project remains open, and Si2 intends to file additional written notifications disclosing all changes in membership.

On December 30, 1988, Si2 filed its original notification pursuant to Section 6(a) of the Act. The Department of Justice published a notice in the Federal Register pursuant to Section 6(b) of the Act on March 13, 1989 (54 FR 10456).

The last notification was filed with the Department on September 7, 2017. A notice was published in the Federal Register pursuant to Section 6(b) of the Act on October 10, 2017 (82 FR 47026).

Suzanne Morris,
Chief, Premerger and Division Statistics Unit, Antitrust Division.

[FR Doc. 2019-07257 Filed 4-11-19; 8:45 am]

BILLING CODE 4410-11-P